DEPARTMENT OF JUSTICE

Federal Bureau of Investigation

[OMB Number 1110-0015]

Agency Information Collection Activities: Proposed Collection, Comments Requested: Revision of a Currently Approved Collection: Hate Crime Incident Report; Quarterly Hate Crime Report

ACTION: 30-day Notice of Information Collection under Review.

The Department of Justice, Federal Bureau of Investigation, Criminal Justice Information Services Division will be submitting the following information collection request to the Office of Management and Budget (OMB) for review and clearance in accordance with established review procedures of the Paperwork Reduction Act of 1995. The proposed information collection is published to obtain comments from the public and affected agencies. This proposed information collection was previously published in the Federal Register Volume 76, Number 129, pages 39437-39438, on July 6, 2011, allowing for a 60 day comment period.

The purpose of this notice is to allow for an additional 30 days for public comment until October 12, 2011. This process is conducted in accordance with 5 CFR 1320.10.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Mr. Gregory E. Scarbro, Unit Chief, Federal Bureau of Investigation, Criminal Justice Information Services (CJIS) Division, Module E-3, 1000 Custer Hollow Road, Clarksburg, West Virginia 26306; facsimile (304) 625-3566 or the DOJ Desk Officer at 202-395-3176.

Written comments and/or suggestions regarding the items contained in this notice, especially the estimated public burden and associated response time, should be directed to

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: Revision of a currently approved collection.

(2) The title of the form/collection: Hate Crime Incident Report and the Quarterly Hate Crime Report.

(3) The agency form number, if any, and the applicable component of the department sponsoring the collection: Form Number: 1-699 and 1-700; Sponsor: Criminal Justice Information Services Division, Federal Bureau of Investigation, Department of Justice.

(4) Affected public who will be asked or required to respond, as well as a brief abstract: Primary: City, county, state, Federal and Tribal law enforcement agencies. Brief Abstract: This collection is needed to collect information on hate crime incidents committed throughout the U.S.

(5) An estimate of the total number of respondents and the amount of time estimated for an average respondent to respond: There are approximately 14,981 law enforcement agency respondents that submit quarterly, four times per year, for a total of 59,924 responses with an estimated response time of 9 minutes per response.

(6) An estimate of the total public burden (in hours) associated with this collection: There are approximately 8,989 hours, annual burden, associated with this information collection.

If additional information is required contact: Jerri Murray, Department Clearance Officer, Policy and Planning Staff, Justice Management Division, United States Department of Justice, Two Constitution Square, 145 N Street, NE., Room 2E-508, Washington, DC 20530.

Jerri Murray,
Department Clearance Officer, PRA, United States Department of Justice.

[FR Doc. 2011-23242 Filed 9-9-11; 8:45 am]

BILLING CODE 4410-02-P